DEPARTMENT OF COMMERCE

Bureau of Industry and Security

15 CFR Parts 742 and 774

[Docket No. 031201299-3299-01]

RIN 0694-AC54

Removal of “National Security” Controls From, and Imposition of “Regional Stability” Controls on, Certain Items on the Commerce Control List

AGENCY: Bureau of Industry and Security, Commerce.

ACTION: Final rule.

SUMMARY: This rule amends the Commerce Control List (CCL) to remove “National Security” (NS) controls from, and to impose “Regional Stability” (RS) controls on, certain items in order to conform with section 5(c)(6)(A) of the Export Administration Act (Act), which limits the duration of U.S. unilaterally imposed NS controls. Although the Act has expired, the Bureau of Industry and Security continues to carry out the provisions of the Act, as appropriate and to the extent permitted by law, pursuant to Executive Order 13222 and the International Emergency Economic Powers Act. This rule also revises two references to the “International Munitions List” to read “Wassenaar Munitions List” to reflect the correct current title of that document and amends the language controlling muzzle loading (black powder) firearms to conform with the corresponding language on the Wassenaar Munitions List.

DATES: This rule is effective March 30, 2004.

FOR FURTHER INFORMATION CONTACT: William Arvin, Regulatory Policy Division, Office of Exporter Services, Bureau of Export Administration, Telephone: (202) 482-0436.

SUPPLEMENTARY INFORMATION:

Background

The Export Administration Regulations (EAR) regulate exports from the United States and reexports of U.S. origin items for a variety of reasons including “National Security.” NS controls are generally imposed to implement decisions of the Wassenaar Arrangement, a multilateral export control agreement. This rule amends the EAR to conform the CCL to section 5(c)(6)(A) of the Act, which provides that unilateral NS controls—i.e., those NS controls imposed only by the United States, instead of in furtherance of international agreements, expire six months after enactment of the Act or of the control, whichever is later.

The Act provides authority to renew unilateral NS controls for successive six month periods if the Secretary of Commerce determines, under section 5(f) or (h)(6) of the Act, that there is no foreign availability of the items at issue. The Act provides alternative authority to renew a control for two six-month periods if the President is actively pursuing negotiations to end such foreign availability. No such determinations have been made and no such negotiations are being undertaken with respect to the items in the affected ECCNs.

Although the Act expired on August 20, 2001, Executive Order 13222 of August 17, 2001 (3 CFR, 2001 Comp., p. 783), as extended by the Notice of August 7, 2003 (68 FR 47833, August 11, 2003), continues the Regulations in effect under the International Emergency Economic Powers Act. The Bureau of Industry and Security (BIS) continues to carry out the provisions of the Act, as appropriate and to the extent permitted by law, pursuant to Executive Order 13222.

This rule amends the CCL to remove NS as a reason for control with respect to those items which the Wassenaar Arrangement has removed from its control lists. However, BIS has decided to continue to control the export and reexport of these items pursuant to foreign policy-based “Regional Stability” (RS) controls because these items have the potential to contribute to military capabilities in a manner that could alter regional military balances contrary to the foreign policy interests of the United States. The affected items are as follows:

• Power controlled searchlights and control units thereof, designed for military use, and equipment mounting such units; and specially designed parts and accessories thereof;

• Bayonets, and the technology for the development, production or use of bayonets; and

• Marine boilers designed to have any of the following characteristics: heat release rate (at maximum rating) equal to or in excess of 190,000 BTU per hour per cubic foot of furnace volume; or ratio of steam generated in pounds per hour (at maximum rating) to the dry weight of the boiler in pounds equal to or in excess of 0.83.

This rule also amends the language controlling one item (muzzle loading (black powder) firearms) to conform with the corresponding language on the Munitions List promulgated by the Wassenaar Arrangement. The item is controlled by the United States as a result of its inclusion on the Wassenaar Munitions List for NS reasons.

This rule also revises two references to the “International Munitions List” to read “Wassenaar Munitions List” to reflect the correct current title of that document.

This rule implements these changes by modifying four existing Export Control Classification Numbers (ECCNs) (0A018, 0A988, 0E018 and 8A018), and creating three new ECCNs (0A918, 0E918 and 8A918). It also amends the RS license requirements in section 742 of the EAR to include the three newly created ECCNs.

The RS controls imposed by this rule are new foreign policy controls. As required by the Act, a report on the imposition of these controls was delivered to Congress on March 11, 2004. This rule makes the following specific changes to the EAR.

In § 742.6(a)(2), three newly created ECCNs (0A918, 0E918, and 8A918) are added to the list of ECCNs for which Regional Stability controls apply.

In supplement No. 1 to part 774 (The Commerce Control List), this rule makes the following changes.

In ECCN 0A018, power controlled searchlights and related items, in paragraph .a, and bayonets, in paragraph .d, are moved to a newly created ECCN 0A918, which lists RS as its reason for control. Paragraphs 0A018 .b and .c are redesignated .a and .b, respectively. Paragraphs .e and .f are redesignated .c and .d, respectively. The new paragraph .c (formerly .e) covering muzzle loading firearms is rewritten to conform to the corresponding language in the Wassenaar Munitions List, Category ML1.a. A cross reference to ECCN 0A984 is added to paragraph .c to alert readers to the fact that certain shotguns are controlled by that entry. The phrase “International Munitions List” is replaced with “Wassenaar Munitions List” in the heading of ECCNs 0A018 and 8A018. Two references to the “Office of Defense Trade Controls” are revised to read “Directorate of Defense Trade Controls” to reflect the current name of that organization.

New ECCN 0A918 is created to control power controlled searchlights, related items and bayonets, as described above, to ensure consistency with the structure of the CCL described in section 738.2 of the EAR, i.e., a “0” in the third place of an ECCN signifies a national security reason for control; a “9” in the third place of an ECCN signifies control for regional stability or other foreign policy reasons.

ECCN 0A988 is modified by replacing “0A018.f.1” with “0A018.d.1” in the heading and in the “Controls” paragraph of the “Reason for Control” section to match the paragraph redesignation in ECCN 0A018 noted above.

ECCN 0E018 is modified by changing the phrase “ECCN 0A018.b through 0A018.e” in its heading to “ECCN 0A018.a through ECCN 0A018.c” to match the paragraph redesignation of 0A018 noted above.

A new ECCN 0E918 is created to control technology for the development, production or use of bayonets for RS reasons. Prior to publication of this rule, technology for the development, production, or use of bayonets was controlled for NS reasons under ECCN 0E018, which controls technology related to commodities that are controlled for NS reasons in ECCN 0A018. This new ECCN conforms the reason for control for technology related to bayonets to the reason for control for the bayonets themselves.

The marine boilers described in paragraph b.4 of ECCN 8A018 are removed from that ECCN and listed in a newly created ECCN 8A918, which lists RS as the reason for control.

Rulemaking Requirements

1. This rule has been determined to be not significant for purposes of Executive Order 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves a collection of information subject to the PRA. This collection has been approved by OMB under control number 0694-0088, “Multi-Purpose Application,” which carries a burden hour estimate of 58 minutes for a manual or electronic submission. Send comments regarding these burden estimates or any other aspect of these collections of information, including suggestions for reducing the burden, to OMB Desk Officer, New Executive Office Building, Washington, DC 20503; and to the Office of Administration, Bureau of Industry and Security, Department of Commerce, 14th Street and Pennsylvania Avenue, NW., Room 6883, Washington, DC 20230.

3. This rule does not contain policies with Federalism implications as that term is defined in Executive Order 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable. Therefore, this regulation is issued in final form. Although there is no formal comment period, public comments on this regulation are welcome on a continuing basis. Comments should be submitted to William H. Arvin, Regulatory Policy Division, Bureau of Export Administration, U.S. Department of Commerce, Room 2705, 14th Street and Pennsylvania Avenue, NW., Washington, DC 20230.

List of Subjects in 15 CFR Part 742 and Part 774

Exports, Foreign trade.

Accordingly, the Export Administration Regulations (15 CFR Parts 730 through 799) are amended as follows:

PART 742—[AMENDED]

1. The authority citation for part 742 is revised to read as follows:

Authority: 50 U.S.C. app. 2401 et seq.; 50 U.S.C. 1701 et seq.; 18 U.S.C. 2510 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Notice of August 7, 2003, 68 FR 47833, August 11, 2003; Notice of October 29, 2003, 68 FR 62209, October 31, 2003.

2. In § 742.6, paragraph (a)(2) is revised to read as follows:

§ 742.6 Regional stability.

(a) * * *

(1) * * *

(2) As indicated in the CCL and in RS Column 2 of the Country Chart (see Supplement No. 1 to part 738 of the EAR), a license is required to any destination except countries in Country Group A:1 (see Supplement No. 1 to part 740 of the EAR), the Czech Republic, Hungary, Iceland, New Zealand and Poland for items described on the CCL under ECCNs 0A918, 0E918, 2A983, 2D983, 2E983, 8A918, and for military vehicles and certain commodities (specially designed) used to manufacture military equipment, described on the CCL in ECCNs 0A018.c, 1B018.a, 2B018, and 9A018.a and .b.

* * * * *

PART 774—[AMENDED]

3. The authority citation for part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 7, 2003, 68 FR 47833, August 11, 2003.

4. In Supplement No. 1 to part 774, Category 0, Nuclear Materials, Facilities, and Equipment (and Miscellaneous Items), Export Control Classification Number 0A018, the heading, the License Exceptions section, and the Unit and Items paragraphs in the List of Items Controlled section is revised to read as follows:

0A018 Items on the Wassenaar Munitions List

* * * * *

License Exceptions

LVS: $5000 for 0A018.a

$3000 for 0A018.b

$1500 for 0A018.c and .d

$0 for Rwanda

GBS: N/A

CIV: N/A

List of Items Controlled

Unit: 0A018.a, and .b in $ value; 0A018.c and .d in number.

Related Controls: * * *

Related Definitions: * * *

Items:

a. Construction equipment built to military specifications, specially designed for airborne transport; and specially designed parts and accessories therefor;

b. Specially designed components and parts for ammunition, except cartridge cases, powder bags, bullets, jackets, cores, shells, projectiles, boosters, fuses and components, primers, and other detonating devices and ammunition belting and linking machines (all of which are subject to the export licensing authority of the U.S. Department of State, Directorate of Defense Trade Controls). (See 22 CFR parts 120 through 130);

c. Muzzle loading (black powder) firearms with a caliber less than 20 mm that were manufactured later than 1937 and that are not reproductions of firearms manufactured earlier than 1890;

Note: 0A018.c does not control weapons used for hunting or sporting purposes that were not specially designed for military use and are not of the fully automatic type, but see ECCN 0984 concerning shotguns.

d. Military helmets, except:

d.1. Conventional steel helmets other than those described by 0A018.d.2 of this entry.

d.2. Helmets, made of any material, equipped with communications hardware, optional sights, slewing devices or mechanisms to protect against thermal flash or lasers.

Note: Helmets described in 0A018.d.1 are controlled by 0A988. Helmets described in 0A018.d.2 are controlled by the U.S. Department of State, Directorate of Defense Trade Controls (See 22 CFR part 121, Category X).

5. In supplement No. 1 to part 774, Category 0, Nuclear Materials, Facilities, and Equipment (and Miscellaneous Items), a new export control classification number 0A918 is added immediately following ECCN 0A018 and immediately preceding ECCN 0A978 to read as follows:

0A918 Miscellaneous Military Equipment Not on the Wassenaar Munitions List

License Requirements

Reason for Control: RS, AT, UN.

Controls | Country chart
RS applies to entire entry | RS Column 2.
AT applies to entire entry | At Column 1.
UN applies to entire entry | Rwanda.

License Exceptions

LVS: $5000 for 0A918.a

$1500 for 0A918.b

$0 for Rwanda

GBS: N/A

CIV: N/A

List of Items Controlled

Unit: 0A918.a in $ value; 0A918.b in number.

Related Controls: N/A

Related Definitions: N/A

Items:

a. Power controlled searchlights and control units therefor, designed for military use, and equipment mounting such units; and specially designed parts and accessories therefor;

b. Bayonets.

6. In supplement No. 1 to Part 774, Category 0, Nuclear Materials, Facilities, and Equipment (and Miscellaneous Items), Export Control Classification Number 0A988, the Heading and the Reason for Control paragraph of the License Requirements section is revised to read as follows:

0A988 Conventional Military Steel Helmets as Described by 0A018.d.1; and Machetes

License Requirements

Reason for Control: UN.

Control(s):

UN applies to entire entry. A license is required for conventional military steel helmets as described by 0A018.d.1 to Rwanda. A license is required for machetes to Rwanda. The Commerce Country Chart is not designed to determine licensing requirements for this entry. See part 746 of the EAR for additional information.

Note: Exports from the U.S. and transhipments to Iran must be licensed by the Department of Treasury, Office of Foreign Assets Control. (See § 746.7 of the EAR for additional information on this requirement.)

* * * * *

7. In supplement No. 1 to part 774, Category 0, Nuclear Materials, Facilities, and Equipment (and Miscellaneous Items), Export Control Classification Number 0E018, the heading is revised to read as follows:

0E018 “Technology” for the “Development”, “Production”, or “Use” of Items Controlled by 0A018.a Through 0A018.c

* * * * *

8. In supplement No. 1 to part 774, Nuclear Materials, Facilities, and Equipment (and Miscellaneous Items), a new Export Control Classification Number 0E918 is added immediately following ECCN 0E018 and immediately preceding ECCN 0E982 as follows:

0E918 “Technology” for the “Development”, “Production”, or “Use” of Bayonets

License Requirements

Reason for Control: RS, UN, AT.

Control(s) | Country chart
RS applies to entire entry | RS Column 2.
UN applies to entire entry | Rwanda.
AT applies to entire entry | AT Column.

License Exceptions

CIV: N/A

TSR: N/A

List of Items Controlled

Unit: N/A

Related Controls: N/A

Related Definitions: N/A

Items:

The list of items controlled is contained in the ECCN heading.

9. In supplement 1 to part 774, Category 8, Marine, Export Control Classification Number 8A018, the Items paragraph in the List of Items Controlled section, is revised to read as follows:

8A018 Items on the International Munitions List

* * * * *

List of Items Controlled

Unit: * * *

Related Controls: * * *

Related Definitions: * * *

Items:

a. Closed and semi-closed circuit (rebreathing) apparatus specially designed for military use, and specially designed components for use in the conversion of open-circuit apparatus to military use;

b. Naval equipment, as follows:

b.1. Diesel engines of 1,500 hp and over with rotary speed of 700 rpm or over specially designed for submarines;

b.2. Electric motors specially designed for submarines, i.e., over 1,000 hp, quick reversing type, liquid cooled, and totally enclosed;

b.3. Nonmagnetic diesel engines, 50 hp and over, specially designed for military purposes. (An engine shall be presumed to be specially designed for military purposes if it has nonmagnetic parts other than crankcase, block, head, pistons, covers, end plates, valve facings, gaskets, and fuel, lubrication and other supply lines, or its nonmagnetic content exceeds 75 percent of total weight.);

b.4. Submarine and torpedo nets; and

b.5. Components, parts, accessories, and attachments for the above.

10. In supplement 1 to part 774, Category 8, Marine, a new Export Control Classification Number 8A918 is added immediately following ECCN 8A018 and immediately preceding ECCN 8A992 as follows:

8A918 Marine Boilers.

Reason for Control: RS, AT, UN.

Controls | Country chart
RS applies to entire entry | RS Column 2.
AT applies to entire entry | AT Column 1.
UN applies to entire entry | Rwanda.

License Exceptions

LVS: $5000, except N/A for Rwanda

GBS: N/A

CIV: N/A

List of Items Controlled

Unit: $ value

Related Controls: N/A

Related Definitions: N/A

Items:

a. Marine boilers designed to have any of the following characteristics:

a.1. Heat release rate (at maximum rating) equal to or in excess of 190,000 BTU per hour per cubic foot of furnace volume; or

a.2. Ratio of steam generated in pounds per hour (at maximum rating) to the dry weight of the boiler in pounds equal to or in excess of 0.83.

b. Components, parts, accessories, and attachments for the above.

Dated: March 23, 2004.
Peter Lichtenbaum,
Assistant Secretary for Export Administration.

[FR Doc. 04-7005 Filed 3-29-04; 8:45 am]

BILLING CODE 3510-33-P